DEPARTMENT OF AGRICULTURE

Performance Review Board Membership

AGENCY: Office of Human Resource Management, Departmental Administration, USDA.

ACTION: Notice of performance review board appointments.

SUMMARY: This notice announces the members of the Senior Executive Service (SES) and Senior Level (SL) and Scientific or Professional (ST) Performance Review Boards (PRBs). Agriculture has two PRBs with representatives from each USDA Mission Area. The PRBs are comprised of a Chairperson and a mix of career and noncareer senior executives and senior professionals that meet annually to review and evaluate performance appraisal documents. The PRB provides a written recommendation to the Secretary for final approval of each executive's performance rating, performance-based pay adjustment, and performance award. The PRBs are advised by the Office of Human Resources Management, Office of the General Counsel, and Office of the Assistant Secretary for Civil Rights to ensure compliance with laws and regulations.

DATES: The board membership is applicable beginning on November 29, 2021.

FOR FURTHER INFORMATION CONTACT: Anita R. Adkins, Acting Chief Human Capital Officer, Office of Human Resources Management, telephone: (337) 247-1820, or Tonique Washington, Acting Chief Learning Officer, telephone: (202) 720-0027.

SUPPLEMENTARY INFORMATION: In accordance with 5 U.S.C. 4314(c)(4), the USDA PRB members are named below:

Bane, Robert; Barhydt, Richard; Bucknall, Janet; Chitnis, Parag; Crockett, John; Eichhorst, John; Green, Mark; Gore, Quvator Renee; Haven, Jackie; Heath, Linda; McHugh, Tara; Packnett, Patrick; Javery, Peggy; Perry, Andrew; Mays, Clyde Frank; Morris, Erin; Powers, Joseph; Staiert, Jim; Smith, Gregory; Taylor, Willie; Tucker, Jennifer; Watson, Michael; Whitley, Daniel; and Williams, Duane.

Anita R. Adkins,
Acting Chief Human Capital Officer, Office of Human Resources Management.

[FR Doc. 2022-00291 Filed 1-10-22; 8:45 am]

BILLING CODE 3410-96-P